DEPARTMENT OF VETERANS AFFAIRS

Privacy Act of 1974; Report of Matching Program

AGENCY: Department of Veterans Affairs.

ACTION: Notice.

Notice is hereby given that the Department of Veterans Affairs (VA) intends to conduct a recurring computer program matching Railroad Retirement Board (RRB) benefit recipient records with VA pension and parents' dependency and indemnity compensation (DIC) records. The goal of this match is to compare income status as reported to VA with benefit records maintained by the RRB.

VA plans to match records of veterans and surviving spouses and children who receive pension, and parents who receive DIC, with railroad retirement benefit records maintained by RRB. The match with RRB will provide VA with data from the RRB Research File of Retirement and Survivor Benefits.

VA will use this information to update the master records of VA beneficiaries receiving income dependent benefits and to adjust VA benefit payments as prescribed by law. Otherwise, information about a VA beneficiary's income is obtained only from reporting by the beneficiary. The proposed matching program will enable VA to ensure accurate reporting of income.

Records to be Matched: The VA records involved in the match are the VA system of records, Compensation, Pension and Education and Rehabilitation Records—VA (58 VA 21/22), first published at 41 FR 924 (March 3, 1976), and last amended at 63 FR 37941 (7/14/98), with other amendments as cited therein. The RRB records consist of information from the Research File of Retirement and Survivor Benefits, Systems of Records RRB 225 and RRB 26 contained in the Privacy Act Issuances, 1991 compilation, Volume V, pages 518-519. In accordance with Title 5 U.S.C., subsection 552a(o)(2) and (r), copies of the agreement are being sent to both Houses of Congress and to the Office of Management and Budget. This notice is provided in accordance with the provisions of the Privacy Act of 1974 as amended by Pub. L. 100-503.

The match will start no sooner than 30 days after publication of this Notice in the Federal Register, or 40 days after copies of this Notice and the agreement of the parties is submitted to Congress and the Office of Management and Budget, whichever is later, and end not more than 18 months after the agreement is properly implemented by the parties. The involved agencies' Data Integrity Boards (DIB) may extend this match for 12 months provided the agencies certify to their DIBs, within three months of the ending date of the original match, that the matching program will be conducted without change and that the matching program has been conducted in compliance with the original matching program.

ADDRESSES: Interested individuals may submit written comments to the Director, Office of Regulations Management (02D), Department of Veterans Affairs, 810 Vermont Avenue, NW., Room 1154, Washington, DC 20420. Comments will be available for public inspection at the above address in the Office of Regulations Management, Room 1158, between 8 a.m. and 4:30 p.m.

FOR FURTHER INFORMATION CONTACT: Paul Trowbridge (212B), (202) 273-7218.

SUPPLEMENTARY INFORMATION: This information is required by Title 5 U.S.C. subsection 552a(e)(12), the Privacy Act of 1974. A copy of this notice has been provided to both Houses of Congress and the Office of Management and Budget.

Approved: August 11, 2003.
Anthony J. Principi,
Secretary of Veterans Affairs.

[FR Doc. 03-21838 Filed 8-26-03; 8:45 am]

BILLING CODE 8320-01-P